DEPARTMENT OF DEFENSE

Office of the Secretary

[Docket ID DOD-2020-OS-0042]

Proposed Collection; Comment Request

AGENCY: Defense Counterintelligence and Security Agency (DCSA), DoD.

ACTION: Information collection notice.

SUMMARY: In compliance with the Paperwork Reduction Act of 1995, the Defense Counterintelligence and Security Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 29, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Michele DeMarion, Defense Counterintelligence and Security Agency (DCSA), 1137 Branchton Road, Boyers, PA 16018, (724) 794-5612 x5274.

SUPPLEMENTARY INFORMATION:

Title; Associated Form; and OMB Number: Freedom of Information/Privacy Act Records Request for Background Investigations; INV Form 100; OMB Control Number 0705-0001.

Needs and Uses: The purpose of the collection is to enable the Defense Counterintelligence and Security Agency, Freedom of Information and Privacy (FOI/P) Office for Investigations, to locate applicable records and provide the requester responsive records pursuant to the Freedom of Information Act (5 U.S.C. 552), and/or the Privacy Act of 1974 (5 U.S.C. 552a). Authority to collect this information is contained in 5 U.S.C. 552, 5 U.S.C. 552a, 32 CFR part 310, and 32 CFR part 286.

Affected Public: Individuals and households.

Annual Burden Hours: 841

Number of Respondents: 10,097

Responses per Respondent: 1

Annual Responses: 10,097

Average Burden per Response: 5 minutes

Frequency: On occasion.

Dated: April 23, 2020.
Aaron T. Siegel,
Alternate OSD Federal Register Liaison Officer, Department of Defense.

[FR Doc. 2020-09011 Filed 4-27-20; 8:45 am]

BILLING CODE 5001-06-P